DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Reach Out Now National Teach-In Initiative Feedback Form

(OMB No. 0930-0258; Extension, no change)—Under section 515(b) of the Public Health Service Act (42 U.S.C. 290bb-21), the Center for Substance Abuse Prevention (CSAP) of the Substance Abuse and Mental Health Services Administration (SAMHSA) is directed to develop effective alcohol abuse prevention literature and, to assure the widespread dissemination of prevention materials among States, political subdivisions, and school systems. Each April, SAMHSA collaborates with Scholastic Inc. in the April distribution of Reach Out Now: Talk to Your Fifth Grader About Underage Alcohol Use, a supplement created and distributed by Scholastic Inc.

Beginning in April 2004, SAMHSA sponsors an annual national Teach-In to foster a conversation with fifth graders on the dangers of early alcohol use. State substance abuse prevention directors nominate organizations to participate in this program. The Teach-In program builds upon the highly successful national initiative of the Leadership to Keep Children Alcohol Free, which is focused on preventing alcohol use among children ages 9 to 15 and is spearheaded by more than 40 current and past Governors' spouses, who have held or supported Reach Out Now Teach-Ins in their States.

Organizations that agree to participate in this SAMHSA initiative are asked to provide feedback information about the implementation and results of the Teach-In event in their community school. The table that follows provides an estimate of the annual response burden for the feedback form.

Number of respondents | Responses/respondent | Burden/response (hrs.) | Total burden hours
200 | 1 | .167 | 34

Send comments to Nancy Pearce, SAMHSA Reports Clearance Officer, Room 16-105, Parklawn Building, 5600 Fishers Lane, Rockville, MD 20857. Written comments should be received by August 16, 2004.

Dated: June 7, 2004.
Patricia S. Bransford,
Acting Executive Officer, SAMHSA.

[FR Doc. 04-13395 Filed 6-14-04; 8:45 am]

BILLING CODE 4162-20-P